SOCIAL SECURITY ADMINISTRATION

Agency Information Collection Activities: Proposed Request and Comment Request

In compliance with Public Law 104-13, the Paperwork Reduction Act of 1995, SSA is providing notice of its information collections that require submission to the Office of Management and Budget (OMB). SSA is soliciting comments on the accuracy of the agency's burden estimate; the need for the information; its practical utility; ways to enhance its quality, utility and clarity; and on ways to minimize burden on respondents, including the use of automated collection techniques or other forms of information technology.

The information collections listed below will be submitted to OMB within 60 days from the date of this notice. Therefore, comments and recommendations regarding the information collections would be most useful if received by the Agency within 60 days from the date of this publication. Comments should be directed to the SSA Reports Clearance Officer at the address listed at the end of the notice. You can obtain a copy of the collection instrument by calling the SSA Reports Clearance Officer on (410) 965-4145, or by writing to him.

1. State Vocational Rehabilitation Agency Claim (SSA-199-U2) and Subpart V—Payments for Vocational Rehabilitation Services, 20 CFR Sections 404.2104, 404.2108, 404.2113, 404.2117, 404.2121, 416.2204, 416.2208, 416.2213 and 416.2217—0960-0310. The information collected on Form SSA-199-U2 and through these current rules is used by the Social Security Administration (SSA) to determine if State vocational rehabilitation agencies are providing appropriate services, including referrals when necessary, and whether those claims for services should be paid. The respondents are the 80-100 State vocational rehabilitation agencies and alternate participants who offer vocational and employment services for SSA beneficiaries.

Number of Respondents: 80-100.

Frequency of Response: On occasion.

Number of Responses: 16,300.

Average Burden Per Response: Varies from 23 minutes to 4 hours.

Estimated Annual Burden: 9,048 hours.

2. SSA/DDS Cost-Effectiveness Measurement System (CEMS) Data Reporting Form—0960-0384. Form SSA-1461 is used by SSA to collect data necessary for detailed analysis and evaluation of costs incurred by State Disability Determination Services (DDS's) in making determinations of disability. The data are also used in determining funding levels for each DDS. The respondents are State DDS's that collect data for cost analysis and evaluation.

Number of Respondents: 52.

Frequency of Response: 4.

Average Burden Per Response: 6 hours.

Estimated Annual Burden: 1,248 hours.

Social Security Administration, DCFAM, Attn: Frederick W. Brickenkamp, 1-A-21 Operations Bldg., 6401 Security Blvd., Baltimore, MD 21235.

Dated: June 2, 2000.
Frederick W. Brickenkamp,
Reports Clearance Officer, Social Security Administration.

[FR Doc. 00-14445 Filed 6-7-00; 8:45 am]

BILLING CODE 4190-29-P